DEPARTMENT OF DEFENSE

GENERAL SERVICES ADMINISTRATION

NATIONAL AERONAUTICS AND SPACE ADMINISTRATION

48 CFR Parts 17, 22, 36

[FAC 2005-35; FAR Case 2009-015; Docket 2009-0025; Sequence 1]

RIN 9000-AL35

Federal Acquisition Regulation; FAR Case 2009-015, Revocation of Executive Order 13202

AGENCIES: Department of Defense (DoD), General Services Administration (GSA), and National Aeronautics and Space Administration (NASA).

ACTION: Final rule.

SUMMARY: The Civilian Agency Acquisition Council and the Defense Acquisition Regulations Council (Councils) have agreed on a final rule amending the Federal Acquisition Regulation (FAR) to delete the implementation of Executive Order (E.O.) 13202 of February 17, 2001, as amended. The E.O. prohibited executive departments and agencies from requiring or prohibiting Federal Government contractors and subcontractors' entrance into project labor agreements.

DATES: Effective Date: July 14, 2009.

FOR FURTHER INFORMATION CONTACT: For clarification of content, contact Mr. Ernest Woodson, Procurement Analyst, at (202) 501-3775. For information pertaining to status or publication schedules, contact the Regulatory Secretariat at (202) 501-4755. Please cite FAC 2005-35, FAR case 2009-015.

SUPPLEMENTARY INFORMATION:

A. Background

On February 6, 2009, the President issued E.O. 13502 which encourages executive agencies to consider requiring the use of project labor agreements in connection with large scale construction projects in order to promote economy and efficiency in Federal procurement. The term “project labor agreement” means a pre-hire collective bargaining agreement with one or more labor organizations that establishes the terms and conditions of employment for a specific construction project and is an agreement described in 29 U.S.C. 158(f).

The President revoked E.O. 13202 issued on February 17, 2001 (66 FR 11225, published February 22, 2001) and E.O. 13208 (66 FR 18717, published April 11, 2001). E.O. 13202 prohibited the Government from requiring or prohibiting the use of project labor agreements by its construction contractors and subcontractors, and E.O. 13208 authorized certain exemptions from E.O. 13202.

This final rule amends the Federal Acquisition Regulation to revise FAR 36.202(d) to delete any references to the revoked Executive Order 13202.

This is a significant regulatory action and, therefore, was subject to review under Section 6(b) of Executive Order 12866, Regulatory Planning and Review, dated September 30, 1993. This rule is not a major rule under 5 U.S.C. 804.

B. Regulatory Flexibility Act

The Regulatory Flexibility Act does not apply to this rule. This final rule does not constitute a significant FAR revision within the meaning of FAR 1.501 and Public Law 98-577, and publication for public comments is not required.

C. Paperwork Reduction Act

The Paperwork Reduction Act does not apply because the changes to the FAR do not impose information collection requirements that require the approval of the Office of Management and Budget under 44 U.S.C. Chapter 35, et seq.

List of Subjects in 48 CFR Parts 17, 22, and 36

Government procurement.

Dated: July 9, 2009.
Al Matera,
Director, Office of Acquisition Policy.

Therefore, DoD, GSA, and NASA amend 48 CFR parts 17, 22, and 36 as set forth below:

1. The authority citation for 48 CFR parts 17, 22, and 36 continues to read as follows:

Authority: 40 U.S.C. 121(c); 10 U.S.C. chapter 137; and 42 U.S.C. 2473(c).

PART 17-SPECIAL CONTRACTING METHODS

17.603 [Amended]

2. Amend section 17.603 by removing paragraph (c).

PART 22-APPLICATION OF LABOR LAWS TO GOVERNMENT ACQUISITIONS

22.101-1 [Amended]

3. Amend section 22.101-1 by redesignating paragraph (b)(1) as paragraph (b) and removing paragraph (b)(2).

PART 36-CONSTRUCTION AND ARCHITECT-ENGINEER CONTRACTS 36.202 [Amended]

4. Amend section 36.202 by removing paragraph (d).

[FR Doc. E9-16615 Filed 7-10-09; 11:15 am]

BILLING CODE 6820-EP-P